FEDERAL DEPOSIT INSURANCE CORPORATION

Agency Information Collection Activities: Proposed Extension of Information Collection; Comment Request

AGENCY: Federal Deposit Insurance Corporation.

ACTION: Notice and request for comment.

SUMMARY: The FDIC, as part of its continuing effort to reduce paperwork and respondent burden, invites the general public and other Federal agencies to take this opportunity to comment on a continuing information collection, as required by the Paperwork Reduction Act of 1995. An agency may not conduct or sponsor, and a respondent is not required to respond to, an information collection unless it displays a currently valid OMB control number. The FDIC is soliciting comment concerning its information collection titled, “Privacy of Consumer Financial Information (12 CFR 332).”

DATES: You should submit written comments by March 3, 2003.

ADDRESSES: You should direct comments and requests for further information to Steven F. Hanfit, (202) 898-3907, Legal Division (Consumer and Compliance Unit), Room MB-3064, Federal Deposit Insurance Corporation, 550 17th Street NW., Washington, DC 20429. All comments should refer to the OMB control number 3064-0136. Comments may be hand-delivered to the guard station at the rear of the 17th Street Building (located on F Street), on business days between 7 a.m. to 5 p.m.

A copy of the comments should also be sent to the OMB Desk Officer for the FDIC: Joseph F. Lackey, Jr., Office of Information and Regulatory Affairs, Office of Management and Budget, New Executive Office Building, Room 10235, Washington, DC 20503, or by e-mail to jlackeyj@omb.eop.gov.

SUPPLEMENTARY INFORMATION: The FDIC is proposing to extend OMB approval of the following information collection:

Title: Privacy of Consumer Financial Information (12 CFR 332).

OMB Control Number: 3064-0136.

Description: This submission covers a collection for an existing regulation.

The Gramm-Leach-Bliley Act (Pub. L. 106-102) requires the information collection, and mandates that the federal banking agencies issue regulations as necessary to implement notice requirements and restrictions on a financial institution's ability to disclose nonpublic personal information about consumers to nonaffiliated third parties.

The information collection requirements in part 332 are as follows:

Section 332.4(a) requires a bank to provide an initial notice to consumers that accurately reflects its privacy policies and practices.

Section 332.5(a) requires a bank to provide a notice annually to customers during the continuation of the customer relationship that accurately reflects the bank's privacy policies and practices.

Section 332.7(a)(1) requires a bank to provide a clear and conspicuous notice to each of its consumers that accurately explains the right to opt out. The notice must state that the bank discloses or reserves the right to disclose nonpublic personal information to certain categories of nonaffiliated third parties; that the consumer has the right to opt out of that disclosure; and a reasonable means by which the consumer may exercise the opt out right. Section 332.10(c) states that a bank may allow a consumer to select certain nonpublic personal information or certain nonaffiliated third parties with respect to which the consumer wishes to opt out (partial opt-out).

Section 332.8(a) requires a bank to provide consumers with a revised notice of the bank's policies and procedures and a new opt out notice, if the bank wishes to disclose information in a way that is inconsistent with the notices previously given to a consumer.

Part 332 also contains affirmative actions that consumers must take to exercise their rights. In order for consumers to prevent banks from sharing their information with nonaffiliated parties, they must opt out (§§ 332.7(a)(2)(ii), 332.10(a)(2) and 332.10(c)).

Consumers also have the right at any time during their continued relationship with the bank to change or update their opt out status with the bank (§§ 332.7(f) and (g)).

These information collection requirements ensure bank compliance with applicable Federal law.

The most recently published (65 FR 8783) estimation of the number of the paperwork burden associated with this collection follows:

Estimated Number of Respondents: 5,764.

Estimated Total Annual Responses: 5,764.

Estimated Time Per Response: 43 hours (disclosure burden, includes initial notice).

Estimated Burden Hours Per Response: 2 Hours (reporting burden)

Frequency of Response: Annually.

Estimated Total Annual Burden: 259,380 hours.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated at Washington, DC this 24th day of December, 2002.
Federal Deposit Insurance Corporation.
Robert E. Feldman,
Executive Secretary.

[FR Doc. 02-33044 Filed 12-31-02; 8:45 am]

BILLING CODE 6714-01-M